ENVIRONMENTAL PROTECTION AGENCY

[FRL-8331-6]

Protection of Stratospheric Ozone: Notice of Data Availability—Changes in HCFC Consumption and Emissions From the U.S. Proposed Adjustments for Accelerating the HCFC Phaseout

AGENCY: Environmental Protection Agency (EPA).

ACTION: Notice of data availability and request for comment.

SUMMARY: The Environmental Protection Agency (EPA) is making available to the public information concerning the potential changes in hydrochlorofluorocarbon (HCFC) consumption and emissions from the proposed adjustments to the Montreal Protocol on Substances that Deplete the Ozone Layer (Montreal Protocol) submitted by the United States for consideration at the 19th Meeting of the Parties (MOP-19) to be held in Montreal beginning on September 17, 2007. HCFCs are already subject to controls under the Protocol, and the proposed adjustments would accelerate the application of those controls. While HCFCs are less damaging to stratospheric ozone than the chlorofluorocarbons (CFCs) they replaced, they still deplete the ozone layer. EPA is making available the report Changes in HCFC Consumption and Emissions from the U.S. Proposed Adjustments for Accelerating the HCFC Phaseout, prepared by ICF Consulting. The information gathered and presented in the report concerns the United States' proposal to adjust the HCFC phaseout schedule under the Montreal Protocol. Because EPA plans to use this information in preparation for MOP-19, EPA wants to provide the public with an opportunity to review the information and submit comments. Readers should note that EPA will only consider comments about the information presented in Changes in HCFC Consumption and Emissions from the U.S. Proposed Adjustments for Accelerating the HCFC Phaseout and is not soliciting comments on any other topic. In particular, EPA is not soliciting comments on the HCFC phaseout established in EPA's December 10, 1993, rulemaking (58 FR 65018).

DATES: EPA will accept comments on the data through July 27, 2007.

ADDRESSES: Submit your comments, identified by Docket ID No. EPA-HQ-OAR-2007-0530, by one of the following methods:

• http://www.regulations.gov: Follow the on-line instructions for submitting comments.

• E-mail: a-and-r-Docket@epa.gov.

• Fax: 202-566-1741.

• Mail: Docket #, Air and Radiation Docket and Information Center, U.S. Environmental Protection Agency, Mail code: 6102T, 1200 Pennsylvania Ave., NW., Washington, DC 20460.

• Hand Delivery: Docket #EPA-HQ-OAR-2003-0163, Air and Radiation Docket at EPA West, 1301 Constitution Avenue NW., Room B108, Mail Code 6102T, Washington, DC 20460. Such deliveries are only accepted during the Docket's normal hours of operation, and special arrangements should be made for deliveries of boxed information.

Instructions: Direct your comments to Docket ID No. EPA-HQ-OAR-2007-0530. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Cindy Axinn Newberg, by regular mail: U.S. Environmental Protection Agency (6205J), 1200 Pennsylvania Ave., NW., Washington, DC 20460; by courier service or overnight express: 1310 L Street, NW., Room 1047A, Washington, DC 20005; by telephone: (202) 343-9729; by fax: (202) 343-2338; or by e-mail: newberg.cindy@epa.gov.

SUPPLEMENTARY INFORMATION:

Outline

1. What is this Action?

2. What information is EPA making available for review and comment?

3. Where can I get the information?

4. How is this action related to the U.S. phaseout of ozone-depleting substances?

5. What should I consider as I prepare my comments for EPA?

6. What is EPA not taking comment on?

7. What supporting documentation do I need to include in my comments?

8. Will there be other opportunities to provide comment on the information?

1. What is this Action?

While the Parties to the Montreal Protocol have already made tremendous strides in phasing out ozone-depleting substances, there are opportunities to speed recovery of the ozone layer by accelerating the phaseout of HCFCs. Under the Montreal Protocol, industrialized countries and developing countries have different schedules for phasing out production and consumption of ozone-depleting substances, including HCFCs. In this context, “consumption” is defined as production plus imports minus exports. The Parties have previously agreed to a phaseout schedule culminating in a complete phaseout for non-Article 5 Parties in 2030 and Article 5 Parties in 2040. Developing countries operating under Article 5, paragraph 1of the Montreal Protocol are referred to as Article 5 Parties. The United States believes steps can be taken to reduce HCFC consumption further and achieve a total phaseout more quickly. This Notice of Data Availability (NODA) describes, and provides for public review and comment, an analysis that supports accelerating the HCFC phaseout.

EPA believes that accelerating the HCFC phaseout will further protect the ozone layer. For example, adoption of all four elements of the U.S. proposal would result in a 54 percent reduction in HCFC emissions compared to the current phaseout schedule. EPA's analysis discusses the HCFC phaseout in a broader context, however, and also considers the transition to likely HCFC alternatives and improvements in energy efficiency that will result from the installation of new equipment. Such an approach is necessary to ensure that potential benefits are considered in the appropriate context. The data made available through this Notice is specific to the United States' proposal but may have general applicability to the other five proposals submitted by various Parties to the Protocol. Those interested in the suite of proposed adjustments are encouraged to review Proposed Adjustments to the Montreal Protocol (UNEP/OzL.Pro.WG.1/27/8/Rev.2), on the Web at: http://ozone.unep.org/Meeting_Documents/oewg/27oewg/OEWG-27-8-Rv2Cr1E.pdf.

EPA is making available information concerning analysis of the proposed adjustments submitted by the United States for consideration at MOP-19. Comments submitted in response to this Notice of Data Availability (NODA) may be used as EPA and other agencies prepare for MOP-19.

2. What information is EPA making available for review and comment?

EPA is making available for review and comment a draft report prepared by ICF Consulting under contract to EPA, Changes in HCFC Consumption and Emissions from the U.S. Proposed Adjustments for Accelerating the HCFC Phaseout.

Those interested in this NODA may wish to review the Protocol and the recent proceedings from the 27th Open-Ended Working Group (OEWG) Meeting held in Nairobi, Kenya June 4-7, 2007 (http://ozone.unep.org/Meeting_Documents/oewg/27oewg/index.shtml), as well as the specific six sets of proposed adjustments submitted by nine Parties presented in Proposed Adjustments to the Montreal Protocol (UNEP/OzL.Pro.WG.1/27/8/Rev.2).

3. Where can I get the information?

All of the information can be obtained through the Air Docket (see ADDRESSES section above for docket contact info). A link to the report Changes in HCFC Consumption and Emissions from the U.S. Proposed Adjustments for Accelerating the HCFC Phaseout will be on the EPA Web site: http://www.epa.gov/ozone/strathome.html.

4. How is this action related to the U.S. phaseout of ozone-depleting substances?

The following table shows the U.S. schedule for phasing out its consumption of HCFCs in accordance with the current terms of the Protocol for Non-Article 5 Parties.

HCFC Phaseout Schedule
Comparison of the current Montreal Protocol schedule for Non-Article 5 Parties and United States phaseout schedules: Montreal Protocol: Year to be implemented | Comparison of the current Montreal Protocol schedule for Non-Article 5 Parties and United States phaseout schedules: Montreal Protocol: Percent reduction in consumption, using the cap as a baseline | Comparison of the current Montreal Protocol schedule for Non-Article 5 Parties and United States phaseout schedules: United States: Year to be implemented | Comparison of the current Montreal Protocol schedule for Non-Article 5 Parties and United States phaseout schedules: United States: Implementation of HCFC phaseout through Clean Air Act regulations
2004 | 35.0 | 2003 | No production and no importing of HCFC-141b.
2010 | 65.0 | 2010 | No production and no importing of HCFC-142b and HCFC-22, except for use in equipment manufactured before 1/1/2010. No production and no importing of any HCFCs, except for use as refrigerants in equipment manufactured before 1/1/2020.
2020 | 99.5 | 2020 | No production and no importing of HCFC-142b and HCFC-22.
2030 | 100.0 | 2030 | No production and no importing of any HCFCs.

The following table shows the current obligations for Article 5 Parties for phasing out HCFCs.

Current Montreal Protocol obligations for article 5(I) parties for HCFC consumption
Year to be implemented | Obligation
2015 | Establish HCFC base consumption level.
2016 | Maintain HCFC base consumption level.
2040 | 100% reduction in base consumption level.

The proposed adjustments would accelerate the phaseout schedule for both Article 5 and non-Article 5 Parties by 10 years; would move forward the year for which non-Article 5 Parties establish a baseline and freeze consumption; would add stepwise reductions to the Article 5 Parties' schedule rather than maintaining a freeze for 25 years followed by a complete phaseout, and would follow a phaseout schedule based on the ozone-depleting potential of the various HCFCs similar to our domestic approach—called ‘worst-first’ or ‘worst-faster’.

5. What should I consider as I prepare my comments for EPA?

You may find the following suggestions helpful for preparing your comments:

1. Explain your views as clearly as possible.

2. Describe any assumptions that you used.

3. Provide any technical information or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

6. What is EPA not taking comment on?

EPA is only accepting comments on accuracy and completeness of the information outlined in this Federal Register Notice and contained in the report Changes in HCFC Consumption and Emissions from the U.S. Proposed Adjustments for Accelerating the HCFC Phaseout. EPA is not accepting comment on the following:

• HCFC phaseout established in EPA's December 10, 1993 rulemaking (58 FR 65018),

• The allowance system for controlling HCFC production import and export, or

• The commitments of the U.S. as a Party to the Montreal Protocol.

7. What supporting documentation do I need to include in my comments?

Please provide any published studies or raw data supporting your position.

8. Will there be other opportunities to provide comment on the information?

EPA or other U.S. government agencies may decide to schedule a public meeting for stakeholders concerning the proposed adjustments or other issues that may be discussed at MOP-19 after July 27, 2007 to continue a dialogue. At this time, EPA has not scheduled such a meeting.

Dated: June 21, 2007.
Edward Callahan,
Acting Director, Office of Atmospheric Programs, Office of Air and Radiation, U.S. Environmental Protection Agency.

[FR Doc. E7-12446 Filed 6-26-07; 8:45 am]

BILLING CODE 6560-50-P